DEPARTMENT OF AGRICULTURE

Animal and Plant Health Inspection Service

[Docket No. APHIS-2022-0045]

Notice of Request for Revision to and Extension of Approval of an Information Collection; Restrictions on Importation of Live Poultry, Poultry Meat, and Other Poultry Products From Specified Regions

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with regulations for the importation of live poultry, poultry meat, and other poultry products from specified regions.

DATES: We will consider all comments that we receive on or before October 24, 2022.

ADDRESSES: You may submit comments by either of the following methods:

• Federal eRulemaking Portal: Go to www.regulations.gov. Enter APHIS-2022-0045 in the Search field. Select the Documents tab, then select the Comment button in the list of documents.

• Postal Mail/Commercial Delivery: Send your comment to Docket No. APHIS-2022-0045, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information about the restrictions on importation of live poultry from specified regions, contact Dr. Bettina Helm, Senior Staff Veterinary Medical Officer, Live Animal Imports, Strategy & Policy, VS, APHIS, 4700 River Road Unit 40, Riverdale, MD 20737; (301) 851-3362. For information about the restrictions on importation of poultry meat, and other poultry products from specified regions, contact Dr. Pamela Simpson-Diedrick, Senior Staff Veterinarian, Animal Products Import and Export, Strategy & Policy, VS, APHIS, 4700 River Road Unit 40, Riverdale, MD 20737; (301) 851-3341. For information on the information collection reporting process, contact Mr. Joseph Moxey, APHIS' Paperwork Reduction Act Coordinator, at (301) 851-2483; joseph.moxey@usda.gov.

SUPPLEMENTARY INFORMATION: Title: Restrictions on Importation of Live Poultry, Poultry Meat, and Other Poultry Products From Specified Regions.

OMB Control Number: 0579-0228.

Type of Request: Revision to and extension of approval of an information collection.

Abstract: Under the authority of the Animal Health Protection Act (7 U.S.C. 8301 et seq.), the Animal and Plant Health Inspection Service (APHIS) of the U.S. Department of Agriculture is authorized, among other things, to prohibit or restrict the importation and interstate movement of animals and animal products to prevent the introduction into and dissemination within the United States of livestock diseases and pests. To carry out the mission, APHIS regulates the importation of animals and animal products into the United States.

Disease prevention is the most effective method for maintaining a healthy animal population and for enhancing the United States' ability to compete in the world market of animal and animal product trade. APHIS' Veterinary Services program administers regulations intended to prevent the introduction of animal diseases into the United States. The regulations in 9 CFR parts 93 and 94 place certain restrictions on the importation of live poultry, poultry meat, and other poultry products from certain regions to prevent an incursion of highly pathogenic avian influenza (HPAI), Newcastle disease (ND), or other exotic poultry diseases into the United States.

To ensure live poultry, poultry meat, and other poultry products from these areas do not pose a risk of bringing ND, HPAI, or other exotic poultry diseases into the United States, APHIS requires information collection activities that include an application for import or in-transit permit; import or in-transit permit customs declaration; reports that the poultry have been offered for importation; health certificates; certificates of origin; recordkeeping; cooperative service agreements; and certificates for shipment back to the United States.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1 hour per response.

Respondents: Foreign animal health authorities; importers of live poultry, poultry meat, and other poultry products; pet bird owners; and zoological facilities.

Estimated annual number of respondents: 1,178.

Estimated annual number of responses per respondent: 4.

Estimated annual number of responses: 4,721.

Estimated total annual burden on respondents: 4,722 hours. (Due to averaging, the total annual burden hours may not equal the product of the annual number of responses multiplied by the reporting burden per response.)

All responses to this notice will be summarized and included in the request for OMB approval. All comments will also become a matter of public record.

Done in Washington, DC, this 18th day of August 2022.
Anthony Shea,
Administrator, Animal and Plant Health Inspection Service.

[FR Doc. 2022-18122 Filed 8-22-22; 8:45 am]

BILLING CODE 3410-34-P